DEPARTMENT OF COMMERCE

International Trade Administration

[A-580-844]

Steel Concrete Reinforcing Bars from the Republic of Korea: Notice of Postponement of Preliminary Results of Antidumping Duty Administrative Review

AGENCY: Import Administration, International Trade Administration, Department of Commerce.

ACTION: Notice of Postponement of Preliminary Results of Administrative Review.

EFFECTIVE DATE: June 3, 2003.

FOR FURTHER INFORMATION CONTACT: Richard Johns at (202) 482-2305 or Mark Manning at (202) 482-5253, AD/CVD Enforcement, Office IV, Group II, Import Administration, International Trade Administration, U.S. Department of Commerce, 14th Street and Constitution Ave, NW, Washington, DC 20230.

SUMMARY: The Department of Commerce (the Department) is postponing the preliminary results of the administrative review of steel concrete reinforcing bar (rebar) from the Republic of Korea (Korea). This review covers the period from January 30, 2001 through August 31, 2002.

SUPPLEMENTARY INFORMATION:

Statutory Time Limits

Section 751(a)(3)(A) of the Tariff Act of 1930, as amended (the Act), requires the Department to make a preliminary determination within 245 days after the last day of the anniversary month of an order/finding for which a review is requested, and a final determination within 120 days after the date on which the preliminary determination is published. However, if it is not practicable to complete the review within these time periods, section 751(a)(3)(A) of the Act allows the Department to extend the time limit for the preliminary determination to a maximum of 365 days and for the final determination to 180 days from the date of publication of the preliminary determination.

Background

On October 24, 2002, the Department published a notice of initiation of administrative review of the antidumping duty order on rebar from Korea (67 FR 65336). The preliminary results are currently due no later than June 2, 2003.

Extension of Time Limit for Preliminary Results of Review

The Department has determined that it is not practicable to complete the preliminary results of this review within the original time limit. See Decision Memorandum from Tom Futtner, Acting Director, Office IV, to Holly A. Kuga, Acting Deputy Assistant Secretary, dated concurrently with this notice, which is on file in the Central Records Unit, Room B-099 of the main Commerce building. Therefore, the Department is extending the time limit for completion of the preliminary results until no later than September 30, 2003. We intend to issue the final results no later than 120 days after the publication of the preliminary results notice.

This notice is issued and published pursuant to section 751(a)(3)(A) of the Act.

Dated: May 27, 2003.
Holly A. Kuga,
Acting Deputy Assistant Secretary Import Administration, Group II.

[FR Doc. 03-13877 Filed 6-2-03; 8:45 am]

BILLING CODE 3510-DS-S